CORPORATION FOR NATIONAL AND COMMUNITY SERVICE

Renewal of a Currently Approved Information Collection

AGENCY: Corporation for National and Community Service.

ACTION: Notice.

SUMMARY: The Corporation for National and Community Service (hereinafter the “Corporation”), has submitted the following public information collection request (ICR) to the Office of Management and Budget (OMB) for review and approval in accordance with the Paperwork Reduction Act of 1995 (Pub. L. 104-13), (44 U.S.C. Chapter 35). A copy of the ICR, with applicable supporting documentation, may be obtained by calling the Corporation for National and Community Service, Brooke Nicholas, 202-606-6627. Individuals who use a telecommunications device for the deaf (TTY-TDD) may call (202) 565-2799 between 8:30 a.m. and 5 p.m. Eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

Comments: A 60-day public comment Notice was published in the Federal Register on January 24, 2008. The comment period for this notice has closed and no comments were received.

SUPPLEMENTARY INFORMATION: Description: In partnership with the Points of Light Foundation/Hands On Network, the Corporation for National and Community hosts an annual conference on volunteering. The conference encourages the volunteering community to share information and practices, learn new skills and establish relationships. Attendees include leaders from: nonprofits and civic infrastructures, academic institutions, businesses and government agencies.

As a part of learning the extent in which we reached these objectives, we would like to collect outcome data that reveals: How well the conference compares with past conferences; what improvements have been made; and what are some suggestions for the future.

We are particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Type of Review: New.

Agency: Corporation for National and Community Service.

Title: National Conference Surveys.

OMB Number: NA.

Frequency: Annual.

Affected Public: Individuals and households, community and faith-based organizations, non-profits, state and local government and education institutions and businesses.

Number of Respondents: 5,000.

Estimated Time Per Respondent: Fifteen minutes per survey, for four or more surveys, including a follow-up survey for a sample of participants.

Total Burden Hours: 5,000 hours.

Total Burden Cost (capital/startup): None.

Total Annual Cost (operating/maintaining systems or purchasing services): None.

Dated: March 31, 2008.
LaMonica Shelton,
Associate Director, Department of Research and Policy Development.

[FR Doc. E8-7061 Filed 4-3-08; 8:45 am]

BILLING CODE 6050-$$-P